DEPARTMENT OF TRANSPORTATION

Surface Transportation Board

[Docket No. FD 35944]

Akron Barberton Cluster Railway Company—Lease and Operation Exemption—Metro Regional Transit Authority

Akron Barberton Cluster Railway Company (ABC), a Class III rail carrier, has filed a verified notice of exemption under 49 CFR 1150.41 to amend its lease with Metro Regional Transit Authority (Metro), and continue to lease the freight rail easement on the Akron-Krumroy Line between approximately milepost 40.42 in Akron, Ohio, and approximately milepost 33.70 in Krumroy, Ohio (the Line), a distance of approximately 6.72 miles in Summit County, Ohio.¹

¹ ABC obtained authority to lease and operate the subject rail line in Akron Barberton Cluster Railway—Lease & Operation Exemption—Metro Regional Transit Authority, FD 34362 (STB served July 11, 2003).

ABC states it will continue to provide rail freight service between the industries on the Line and the connecting line-haul carriers, Wheeling & Lake Erie Railway Company and CSX Transportation, Inc., in Akron/Barberton, Ohio. ABC further states that Metro, as the owner and lessor of the freight easement, will retain a residual common carrier obligation on the Line but will not operate any rail freight service on the Line.

ABC certifies that its projected annual revenues as a result of this transaction will not exceed those that would qualify it as a Class II or Class I rail carrier and will not exceed $5 million. According to ABC, the lease agreement does not contain any provision that would limit ABC's ability to interchange traffic with a third-party connecting carrier.

ABC states that it intends to consummate the transaction on or shortly after August 6, 2015, the effective date of this transaction (30 days after the exemption was filed). If the notice contains false or misleading information, the exemption is void ab initio. Petitions to revoke the exemption under 49 U.S.C. 10502(d) may be filed at any time. The filing of a petition to revoke will not automatically stay the effectiveness of the exemption. Stay petitions must be filed no later than July 30, 2015 (at least seven days before the exemption becomes effective).

An original and 10 copies of all pleadings, referring to Docket No. FD 35944, must be filed with the Surface Transportation Board, 395 E Street SW., Washington, DC 20423-0001. In addition, one copy of each pleading must be served on Michael J. Barron, Jr., Fletcher & Sippel LLC, 29 North Wacker Drive, Suite 920, Chicago, IL 60606-2832.

Board decisions and notices are available on our Web site at WWW.STB.DOT.GOV.

Decided: July 20, 2015.
By the Board, Joseph H. Dettmar, Acting Director, Office of Proceedings.
Brendetta S. Jones,
Clearance Clerk.

[FR Doc. 2015-18143 Filed 7-22-15; 8:45 am]

BILLING CODE 4915-01-P